DEPARTMENT OF THE INTERIOR

National Park Service

[NPS-WASO-NAGPRA-NPS0039367; PPWOCRADN0-PCU00RP14.R50000]

Notice of Inventory Completion: U.S. Department of the Interior, Bureau of Land Management, Arizona State Office, Phoenix, AZ

AGENCY: National Park Service, Interior.

ACTION: Notice.

SUMMARY: In accordance with the Native American Graves Protection and Repatriation Act (NAGPRA), the U.S. Department of the Interior, Bureau of Land Management, Arizona State Office (BLM), has completed an inventory of human remains and associated funerary objects and has determined that there is a cultural affiliation between the human remains and associated funerary objects and Indian Tribes or Native Hawaiian organizations in this notice.

DATES: Repatriation of the human remains and associated funerary object in this notice may occur on or after February 18, 2025.

ADDRESSES: Raymond Suazo, Bureau of Land Management, Arizona State Office, One North Central Avenue, Phoenix, AZ 85004, telephone (602) 417-9500, email rmsuazo@blm.gov.

SUPPLEMENTARY INFORMATION: This notice is published as part of the National Park Service's administrative responsibilities under NAGPRA. The determinations in this notice are the sole responsibility of the BLM and additional information on the determinations in this notice, including the results of consultation, can be found in its inventory or related records. The National Park Service is not responsible for the determinations in this notice.

Abstract of Information Available

Human remains representing two individuals have been identified. The one associated funerary object is one lot of vegetable material (including a fragment of narrowleaf yucca and multiple loose unidentified fibers). The individuals and associated funerary object were found in a box on the shelf of a storage closet at the Safford Field Office, Safford, Graham County, Arizona. No documentation could be found to identify where the box's contents had come from or when they were removed.

In consultation with BLM, the Salt River Pima-Maricopa Indian Community of the Salt River Reservation, Arizona and the Gila River Indian Community of the Gila River Indian Reservation, Arizona asserted a lengthy historic tradition of basketry among tribes of southern Arizona which used similar fibers to those represented in the associated funerary object.

A fiber specialist's analysis of the associated funerary object indicated the manufacture of plaited basketry was a late (post 1100 CE) precontact perishable tradition south of the Mogollon Rim, primarily associated with the Late Mogollon and Salado archaeological cultures. The specialist suggested an association with the modern Hopi and Zuni pueblos.

Cultural Affiliation

Based on the information available and the results of consultation, cultural affiliation is reasonably identified by the geographic location and acquisition history of the human remains and associated funerary objects described in this notice.

Determinations

The Bureau of Land Management Arizona State Office has determined that:

• The human remains described in this notice represent the physical remains of two individuals of Native American ancestry.

• The one associated funerary object described in this notice is reasonably believed to have been placed intentionally with or near individual human remains at the time of death or later as part of the death rite or ceremony.

• There is a connection between the human remains and associated funerary objects described in this notice and the Ak-Chin Indian Community; Gila River Indian Community of the Gila River Indian Reservation, Arizona; Hopi Tribe of Arizona; Salt River Pima-Maricopa Indian Community of the Salt River Reservation, Arizona; Tohono O'odham Nation of Arizona; and the Zuni Tribe of the Zuni Reservation, New Mexico.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after February 18, 2025. If competing requests for repatriation are received, the BLM must determine the most appropriate requestor prior to repatriation. Requests for joint repatriation of the human remains and associated funerary objects are considered a single request and not competing requests. The BLM is responsible for sending a copy of this notice to the Indian Tribes and Native Hawaiian organizations identified in this notice.

Authority: Native American Graves Protection and Repatriation Act, 25 U.S.C. 3003, and the implementing regulations, 43 CFR 10.10.

Dated: January 13, 2025.
Melanie O'Brien,
Manager, National NAGPRA Program.

[FR Doc. 2025-01167 Filed 1-16-25; 8:45 am]

BILLING CODE 4312-52-P